DEPARTMENT OF ENERGY

Federal Energy Regulatory Commission

[Docket No. CP21-498-000]

Columbia Gas Transmission, LLC; Notice of Availability of the Final Environmental Impact Statement for the Proposed Virginia Electrification Project

The staff of the Federal Energy Regulatory Commission (FERC or Commission) has prepared a final environmental impact statement (EIS) for the Virginia Electrification Project (Project), proposed by Columbia Gas Transmission, LLC (Columbia) in the above-referenced docket. Columbia requests authorization to construct and operate natural gas facilities in Virginia. The Project is designed to provide 35,000 dekatherms per day of incremental mainline capacity on Columbia's pipeline system. The Project would address a request from Columbia Gas of Virginia, an unaffiliated local distribution company, for firm transportation service to meet growing energy demand in the southeast Virginia market area off of Columbia's existing VM-107, VM-108, and VM-109 pipelines.

This final EIS assesses the potential environmental effects of the construction and operation of the Project in accordance with the requirements of the National Environmental Policy Act (NEPA). Columbia's Project facilities include: one zero emission electric motor compressor unit at the Boswells Tavern Compressor Station located in Louisa County; facility modifications to the Boswells Tavern point of receipt located in Louisa County to allow for increased capacity; replacement of all five existing gas-powered compressor units at the Goochland Compressor Station, located in Goochland County, with new units that will run exclusively on electric motors, but will have the ability to run on gas in order to ensure reliability; and change the status of an existing compressor unit from backup mode to active mode and increase the site-rated station horsepower to 5,500 horsepower at the Petersburg Compressor Station located in Prince George County. The FERC staff concludes that approval of the proposed Project, with the mitigation measures recommended in the EIS, would result in some adverse environmental impacts; however, with the exception of climate change impacts, those impacts would not be significant.

The EIS is not characterizing the Project's greenhouse gas emissions as significant or insignificant because the Commission is conducting a generic proceeding to determine whether and how the Commission will conduct significance determinations going forward.¹ The EIS also concludes that no system, route, or other alternative would meet the Project objective while providing a significant environmental advantage over the Project as proposed.

¹ Consideration of Greenhouse Gas Emissions in Natural Gas Infrastructure Project Reviews, 178 FERC ¶ 61,108 (2022); 178 FERC ¶ 61,197 (2022).

The Commission mailed a copy of the Notice of Availability of the Final Environmental Impact Statement for the Proposed Virginia Electrification Project to federal, state, and local government representatives and agencies; local libraries; newspapers; elected officials; Native American Tribes; and other interested parties. The final EIS is only available in electronic format. It may be viewed and downloaded from the FERC's website (www.ferc.gov), on the natural gas environmental documents page (https://www.ferc.gov/industries-data/natural-gas/environment/environmental-documents). In addition, the final EIS may be accessed by using the eLibrary link on the FERC's website. Click on the eLibrary link (https://elibrary.ferc.gov/eLibrary/search) select “General Search” and enter the docket number in the “Docket Number” field (i.e., CP21-498-000). Be sure you have selected an appropriate date range. For assistance, please contact FERC Online Support at FercOnlineSupport@ferc.gov or toll free at (866) 208-3676, or for TTY, contact (202) 502-8659.

The final EIS is not a decision document. It presents Commission staff's independent analysis of the environmental issues for the Commission to consider when addressing the merits of all issues in this proceeding.

Additional information about the Project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: December 16, 2022.
Debbie-Anne A. Reese,
Deputy Secretary.

[FR Doc. 2022-27856 Filed 12-21-22; 8:45 am]

BILLING CODE 6717-01-P